DEPARTMENT OF THE INTERIOR

Bureau of Ocean Energy Management

Geological and Geophysical Exploration on the Atlantic Outer Continental Shelf; Draft Programmatic Environmental Impact Statement

AGENCY: Bureau of Ocean Energy Management (BOEM), Interior.

ACTION: Notice of extension of comment period.

SUMMARY: This notice is published pursuant to the regulations implementing the provisions of the National Environmental Policy Act (NEPA). BOEM has prepared a Draft Programmatic Environmental Impact Statement (PEIS) to evaluate potential environmental effects of multiple Geological and Geophysical (G&G) activities on the Mid and South Atlantic Planning Areas of the Outer Continental Shelf (OCS). These activities include, but are not limited to, seismic surveys, sidescan-sonar surveys, electromagnetic surveys, geological and geochemical sampling, and remote sensing. The Draft PEIS considers G&G activities for the three program areas managed by BOEM: oil and gas exploration and development; renewable energy; and marine minerals. BOEM is extending the comment period for this Draft PEIS.

DATES: Comments on this Draft PEIS will now be accepted until July 2, 2012.

ADDRESSES: If you wish to comment, you may submit your written comments by these methods. Written comments should be enclosed in an envelope labeled “Comments on the Draft PEIS for Atlantic G&G Activities” and mailed (or hand carried) to Mr. Gary D. Goeke, Chief, Regional Assessment Section, Office of Environment (MS 5410), Bureau of Ocean Energy Management, Gulf of Mexico OCS Region, 1201 Elmwood Park Boulevard, New Orleans, Louisiana 70123-2394. Comments by email should be sent to: GGEIS@boem.gov. See SUPPLEMENTARY INFORMATION section for information on submitting comments via the internet and the public disclosure of commenter's names and addresses.

FOR FURTHER INFORMATION CONTACT: For more information on the Draft PEIS, you may contact Mr. Gary D. Goeke, Bureau of Ocean Energy Management, Gulf of Mexico OCS Region, 1201 Elmwood Park Boulevard (MS 5410), New Orleans, Louisiana 70123-2394. You may also contact Mr. Goeke by telephone at (504) 736-3233.

SUPPLEMENTARY INFORMATION: This notice is published pursuant to the regulations (40 CFR 1503) implementing the provisions of the National Environmental Policy Act (NEPA) of 1969, as amended (42 U.S.C. 4321 et seq. (1988)).

The Draft PEIS considers G&G activities for the three program areas managed by BOEM: (1) Oil and gas exploration and development; (2) renewable energy; and (3) marine minerals. A Notice of Availability for the Draft PEIS was published in the Federal Register on March 30, 2012 (see 77 FR 19321) opening a 60-day comment period originally scheduled to close on May 30, 2012. BOEM has now decided to extend the comment period for this draft PEIS until July 2, 2012.

To obtain a single printed or CD-ROM copy of the Draft PEIS, you may contact the BOEM, Gulf of Mexico OCS Region, Public Information Office (MS 5034), 1201 Elmwood Park Boulevard, Room 250, New Orleans, Louisiana 70123-2394 (1-800-200-GULF). An electronic copy of the Draft PEIS is available at the BOEM's Internet Web site at http://www.boem.gov/Oil-and-Gas-Energy-Program/GOMR/GandG.aspx. Several libraries in Atlantic coastal states have also been sent copies of the Draft PEIS (CDs or hard copy; according to their preference and their selection criteria for receipt of government documents). To find out the libraries having copies of the Draft PEIS for review, you may contact the BOEM's Public Information Office at the number provided above.

Public Disclosure of Names and Addresses: Before including your address, phone number, email address, or other personal identifying information in your comment, be advised that your entire comment, including your personal identifying information, may be made publicly available at any time. While you can ask us in your comment to withhold from public review your personal identifying information, we cannot guarantee that we will be able to do so.

Dated: May 29, 2012.
Tommy P. Beaudreau,
Director, Bureau of Ocean Energy Management.

[FR Doc. 2012-13403 Filed 5-30-12; 11:15 am]

BILLING CODE 4310-MR-P